DEPARTMENT OF COMMERCE

National Oceanic and Atmospheric Administration

50 CFR Part 600

[Docket No. 031031272-3272-01; I.D. 102903A]

RIN 0648-AR76

Fisheries of the United States; Essential Fish Habitat

AGENCY: National Marine Fisheries Service (NMFS), National Oceanic and Atmospheric Administration (NOAA), Commerce.

ACTION: Advance notice of proposed rulemaking; consideration of revision to Essential Fish Habitat (EFH) guidelines; reopening of the comment period.

SUMMARY: In a document published in the Federal Register on December 11, 2003, NMFS requested comments on potential revisions to the EFH guidelines. The comment period for the advance notice of proposed rulemaking (ANPR) closed on January 26, 2004. The intent of this document is to announce the reopening of the public comment period.

DATES: Written comments must be received no later than 5 p.m. eastern standard time on or before April 26, 2004.

ADDRESSES: Written comments must be sent to Rolland A. Schmitten, Director, Office of Habitat Conservation, NOAA National Marine Fisheries Service, F/HC - EFH ANPR, 1315 East-West Highway, Silver Spring, MD 20910. Comments may also be sent via fax to (301) 427-2570 or by e-mail to 0648-AR76@noaa.gov. Include in the subject line of the e-mail comment the following document identifier: 0648-AR76. The EFH guidelines can be located online at http://www.nmfs.noaa.gov/habitat/habitatprotection/essentialfishhabitat8.htm or within the Code of Federal Regulations at 50 CFR 600.805 to 600.930.

FOR FURTHER INFORMATION CONTACT: Karen Abrams at (301) 713-4300 (ext. 149) or David MacDuffee at (301) 713-4300 (ext. 155).

SUPPLEMENTARY INFORMATION: As announced in the Federal Register on December 11, 2003 (68 FR 69070), NMFS requested comments on potential revisions to the EFH guidelines. The comment period closed on January 26, 2004. While NMFS received several comments expressing opinions about whether the EFH guidelines should be revised, NMFS was also asked to lengthen the comment period beyond the original 45 days. As one of the functions of the EFH guidelines is to assist the Fishery Management Councils (Councils) in identifying and conserving EFH, and only one Council had the ability to provide substantive comments, NMFS has decided to reopen the comment period to allow the public and the Councils an additional opportunity to comment on the EFH guidelines. The agency believes these additional comments will aid in the evaluation of the EFH guidelines. Comments received between January 26, 2004 and the date of this notice will be given full consideration by NMFS.

Background

In January 2002, NMFS promulgated a final rule (67 FR 2343) that established guidelines (50 CFR 600.805 to 600.930) to assist the Councils and the Secretary of Commerce (Secretary) in the description and identification of EFH in fishery management plans (FMPs), the identification of adverse effects to EFH, and the identification of actions required to conserve and enhance EFH. The final rule also detailed procedures the Secretary (acting though NMFS), other Federal agencies, and the Councils will use to coordinate, consult, or provide recommendations on Federal and state actions that may adversely affect EFH. Such guidelines promulgated through regulation were mandated in the 1996 amendments incorporated into the Magnuson-Stevens Fishery Conservation and Management Act (16 U.S.C. 1855(b)(1)(A)). The intended effect of the guidelines is to promote the protection, conservation, and enhancement of EFH.

After a 5-year public process, NMFS finalized the EFH guidelines in 2002. Nevertheless, NMFS recognized that a great deal of interest remained from various stakeholders in how to integrate habitat considerations into fishery management. As a result of this interest, NMFS committed to evaluating the efficacy of the EFH guidelines as they are implemented, to apply the lessons learned from such implementation as appropriate, and to consider changing the regulations if warranted through an appropriate public process.

NMFS recognizes that implementation of the Act’s EFH provisions is complex and requires considerable species and habitat information not always equally available across species or geography. In addition, NMFS recognizes that not all habitats exhibit the same characteristics, and that implementation of the EFH guidelines continues to attract public interest from its stakeholders.

Given ongoing interest in EFH and NMFS’ commitment to evaluate the efficacy of the EFH guidelines through an appropriate public process, NMFS solicits input from the public regarding (1) whether the EFH guidelines (50 CFR 600.805 to 600.930) should be revised, and (2) if revisions are desired, what parts of the guidelines should be revised, how should they be revised, and why. NMFS will use this information in determining whether to proceed with a revision to the EFH guidelines, and, if so, the issues to be addressed.

This ANPR has been determined to be significant for the purposes of Executive Order 12866.

Authority: 16 U.S.C. 1801 et seq.

Dated: February 19, 2004.
William T. Hogarth,
Assistant Administrator for Fisheries, National Marine Fisheries Service.

[FR Doc. 04-4149 Filed 2-24-04; 8:45 am]

BILLING CODE 3510-22-S